SMALL BUSINESS ADMINISTRATION

[Disaster Declaration #12161 and #12162]

Tennessee Disaster Number TN-00038

AGENCY: Small Business Administration.

ACTION: Amendment 2.

SUMMARY: This is an amendment of the Presidential declaration of a major disaster for Public Assistance Only for the State of Tennessee (FEMA-1909-DR), dated 05/04/2010.

Incident: Severe Storms, Flooding, Straight-Line Winds and Tornadoes.

Incident Period: 04/30/2010 and continuing.

Effective Date: 05/06/2010.

Physical Loan Application Deadline Date: 07/06/2010.

Economic Injury (EIDL) Loan Application Deadline Date: 02/04/2011.

ADDRESSES: Submit completed loan applications to: Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Tennessee, dated 05/04/2010, is hereby amended to include the following areas as adversely affected by the disaster.

Primary Counties: Carroll, Crockett, Decatur, Fayette, Gibson, Hardeman, Haywood, Henderson, Houston, Madison, Obion.

All other information in the original declaration remains unchanged.

(Catalog of Federal Domestic Assistance Numbers 59002 and 59008)

James E. Rivera,
Associate Administrator for Disaster Assistance.

[FR Doc. 2010-11410 Filed 5-12-10; 8:45 am]

BILLING CODE 8025-01-P